DEPARTMENT OF COMMERCE

National Oceanic and Atmospheric Administration

[I.D. 040400C]

Fisheries off West Coast States and in the Western Pacific; Northern Anchovy Fishery

AGENCY: National Marine Fisheries Service (NMFS), National Oceanic and Atmospheric Administration (NOAA), Commerce.

ACTION: Receipt of an application for an exempted fishing permit (EFP) and request for comments.

SUMMARY: NMFS announces receipt of an application for an EFP that would allow an experimental fishery for northern anchovy in an area off San Francisco ordinarily closed to vessels fishing to reduce the catch into products such as fish meal and oil. Reduction fishing is prohibited in the Farallon Islands closure by the regulations implementing the Coastal Pelagic Species Fishery Management Plan (FMP). The purpose of the proposed fishery is to investigate the consequences of conducting at least a small-scale reduction fishery in the area. If granted, the permit would allow fishing that otherwise would be prohibited by the FMP and its implementing regulations.

DATES: Comments must be received by June 2, 2000.

ADDRESSES: Send comments to Rodney R. McInnis, Acting Administrator, Southwest Region, National Marine Fisheries Service, 501 W. Ocean Boulevard, Suite 4200, Long Beach, CA 90802-4213.

FOR FURTHER INFORMATION CONTACT: James Morgan at 310-980-4036.

SUPPLEMENTARY INFORMATION: The FMP and implementing regulations at 50 CFR 660.516 and 50 CFR 600.745(b) specify that EFPs may be issued to authorize fishing that otherwise would be prohibited. Regulations at 50 CFR 600.745(b) set forth procedures for issuing such permits.

NMFS has accepted an application for review and has forwarded copies to the U.S. Coast Guard and the Director of the California Department of Fish and Game. The applicant proposes to harvest northern anchovy off the coast of California in the area of the Farallon Islands. This area has been closed to reduction fishing since implementation of the FMP in 1978 and, like other area closures in the FMP, was meant to avoid conflict between recreational vessels and what was then a growing high-volume reduction fishery located in southern California. Fishing operations would most likely take place in the summer and fall of 2000 with roundhaul gear.

Others wanting to participate in the fishery must submit applications to the Regional Administrator (SEE ADDRESSES), which must provide the required information specified at 50 CFR 600.745(b). Exempted fishing permits may require that the permittee carry an observer at the permittee's expense, keep accurate records of bycatch, and make other necessary reports.

Applications will be discussed at the June 23-26, 2000, meeting of the Pacific Fishery Management Council, which will be held at the Doubletree Hotel Columbia River in Portland OR, 1401 N. Hayden Island Drive, Portland, OR 97217. The decision on whether to issue any EFP and determinations on appropriate permit conditions will be based on a number of considerations, including recommendations made by the Council and comments received from the public. A copy of the application is available for review at the NMFS Southwest Regional Office. (see ADDRESSES).

Authority: 16 U.S.C. 1801 et seq.

Dated: April 27, 2000.
Bruce C. Morehead,
Acting Director, Office of Sustainable Fisheries, National Marine Fisheries Service.

[FR Doc. 00-11020 Filed 5-2-00; 8:45 am]

BILLING CODE 3510-22-F